DEPARTMENT OF COMMERCE

National Oceanic and Atmospheric Administration

RIN 0648-XC146

Caribbean Fishery Management Council; Public Meetings; Correction

AGENCY: National Marine Fisheries Service (NMFS), National Oceanic and Atmospheric Administration (NOAA), Commerce.

ACTION: Notice of public meeting addendum.

SUMMARY: The Caribbean Fishery Management Council (Council) and its Scientific and Statistical Committee (SSC) will hold meetings.

DATES: The Council meeting will be held on August 28-29, 2012. The Council will convene on Tuesday, August 28, 2012 from 9 a.m. to 5 p.m., and will reconvene on Wednesday, August 29, 2012, from 9 a.m. to 5 p.m. The SSC will meet on August 27, 2012 from 9 a.m. to 5 p.m., and will reconvene on Tuesday, August 28, 2012, from 9 a.m. until noon.

ADDRESSES: The meetings will be held at the El Conquistador Hotel, #1000 El Conquistador Avenue, Fajardo, Puerto Rico.

FOR FURTHER INFORMATION CONTACT: Caribbean Fishery Management Council, 268 Muñoz Rivera Avenue, Suite 1108, San Juan, Puerto Rico 00918-1920; telephone: (787) 766-5926.

SUPPLEMENTARY INFORMATION: The original notice published in the Federal Register on August 3, 2012 (77 FR 46409). The meeting notice is being re-published in its entirety due to an SSC meeting being added on Tuesday, August 27 and Wednesday, August 28, 2012. Additional items have been included in the regular Council meeting agenda also.

The SSC will hold a meeting to discuss the following agenda item:

August 27, 2012, 9 a.m. to 5 p.m. and August 28, 2012, 9 a.m. Until Noon

• To Prepare an Outline and Draft Five-Year Research Plan for the Caribbean Fishery Management Council.

The Council will hold its 143rd regular Council Meeting to discuss the items contained in the following agenda:

August 28, 2012—9 a.m. to 5 p.m.

• Call to Order

• Election of Officers

• Adoption of Agenda

• Consideration of the 142nd Council Meeting Verbatim Transcriptions

• Executive Director's Report

• Report from Public Hearings and Scoping Meetings

—ACLs/AMs Seagrassess

—White Paper FMPs by Areas

—Regular Amendment on Parrotfish Trips, Size Limits, and Trap Escape Vents-Options Paper

• Report by the Chairperson of the Outreach and Education Advisory Panel—Dr. Alida Ortíz Public Comment Period—(5) Five-Minute Presentations

August 29, 2012, 9 a.m.-5 p.m.

• Trap Reduction Project Report Update

• Five Year Research Plan—Barbara Kojis

• Queen Conch Compatible Regulations St. Croix and EEZ

• Calendar vs. Fishing Year Issues

• Enforcement Reports

—Puerto Rico—DNER

—U.S. Virgin Islands—DPNR

—NOAA/NMFS

—U.S. Coast Guard

• Administrative Committee Recommendations (July 31st, 2012 Meeting)

• Final Action on the following proposals:

1. Proposal from the St. Thomas Fishermen's Association and the St. Croix Fishermen's Association, entitled “Tagging Project of Spiny Lobsters to Obtain Better Growth Parameters for Assessment.”

2. Proposal by Dr. M. Scharer, Dr. R. Appeldoorn, and Dr. R. Nemeth, entitled “Nassau Grouper Epinephelus striatus Fish Spawning Aggregation Research.”

• Consideration and Review on the following proposal:

1. Proposal from the St. Croix Commercial Fisherman's Association, Anthony Iarocci, CFMC Consultant, entitled “Spiny Lobster Data Collection Pilot Project of the US Virgin Islands and Puerto Rico.”

• Meetings Attended by Council Members and Staff

• Public Comment Period (5-Minute Presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Simultaneous Interpretation (English/Spanish) will be provided. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone (787) 766-5926, at least 5 days prior to the meeting date.

Dated: August 3, 2012.
Tracey L. Thompson,
Acting Deputy Director, Office of Sustainable Fisheries, National Marine Fisheries Service.

[FR Doc. 2012-19472 Filed 8-8-12; 8:45 am]

BILLING CODE 3510-22-P